DEPARTMENT OF TRANSPORTATION

Federal Aviation Administration

14 CFR Part 39

[Docket No. 2003-SW-09-AD]

RIN 2120-AA64

Airworthiness Directives; Eurocopter France Model SA-365N, N1, AS-365N2, and AS 365 N3 Helicopters

AGENCY: Federal Aviation Administration, DOT.

ACTION: Notice of proposed rulemaking (NPRM).

SUMMARY: This document proposes adopting a new airworthiness directive (AD) for the specified Eurocopter France (Eurocopter) model helicopters. This proposal would require inspecting the fuel air vent hoses (air vent hoses) for chafing and fuel leakage in the interference areas, inspecting the length of the latch support attachment screws, installing spacers to prevent interference with the latch support attachment screws, and removing one tyrap clamp support. This proposal is prompted by a report of a fuel leak in the air vent hose at the 9° frame on the pilot's side of the helicopter. The actions specified by this proposed AD are intended to prevent fuel leakage, toxic fumes inside the cabin creating a fire hazard that could lead to a fire and smoke in the cabin, and subsequent loss of control of the helicopter.

DATES: Comments must be received on or before September 15, 2003.

ADDRESSES: Submit comments in triplicate to the Federal Aviation Administration (FAA), Office of the Regional Counsel, Southwest Region, Attention: Rules Docket No. 2003-SW-09-AD, 2601 Meacham Blvd., Room 663, Fort Worth, Texas 76137. You may also send comments electronically to the Rules Docket at the following address: 9-asw-adcomments@faa.gov. Comments may be inspected at the Office of the Regional Counsel between 9 a.m. and 3 p.m., Monday through Friday, except Federal holidays.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments will be considered before taking action on the proposed rule. The proposals contained in this document may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this proposal must submit a self-addressed, stamped postcard on which the following statement is made: “Comments to Docket No. 2003-SW-09-AD.” The postcard will be date stamped and returned to the commenter.

Discussion

The Direction Generale De L'Aviation Civile (DGAC), the airworthiness authority for France, notified the FAA that an unsafe condition may exist on Eurocopter Model AS 365N, N1, N2, and AS 365 N3 helicopters. The DGAC advises of a report of a fuel leak that was discovered on the cabin floor of an aircraft, at the air vent hose, at the 9° frame, on the pilot's side. The fuel leak was caused by interference between the air vent hose and the attachment screws of the latch support of the right-hand front passenger door.

Eurocopter has issued Alert Telex No. 28.00.31, dated January 14, 2003, that describes:

• Checking the condition of the air vent hoses in the interference areas for damage to the external protection of the air vent hoses and fuel leaks, and if leaks are discovered, replacing the hoses and if the external protection is damaged, replacing the hose at 500 hours time-in-service (TIS);

• Protecting the air vent hoses in the interference areas with adhesive tape;

• Checking the attachment screws of the latch support on the right-hand and left-hand sides for correct length;

• On the right-hand side of the aircraft, installing spacers to prevent any interference between the attachment screws of the latch support and the air vent hose; and

• On the left-hand side of the aircraft, removing one of the tyrap clamp supports that secure the air vent hose to the 9° frame at the latch support.

The DGAC classified this alert telex as mandatory and issued AD 2003-028(A), dated February 5, 2003, to ensure the continued airworthiness of these helicopters in France.

These helicopter models are manufactured in France and are type certificated for operation in the United States under the provisions of 14 CFR 21.29 and the applicable bilateral agreement. Pursuant to the applicable bilateral agreement, the DGAC has kept the FAA informed of the situation described above. The FAA has examined the findings of the DGAC, reviewed all available information, and determined that AD action is necessary for products of these type designs that are certificated for operation in the United States.

This previously described unsafe condition is likely to exist or develop on other helicopters of the same type design registered in the United States. Therefore, the proposed AD would require, within 50 hours TIS or 1 month, whichever occurs first, inspecting the fuel air vent hoses for chafing and fuel leakage in the interference areas and replacing leaking air vent hoses. It would also require inspecting the length of the latch support attachment screws on both passenger doors, and if necessary, installing airworthy attachment screws. The proposed AD would also require installing spacers to prevent interference with the latch support attachment screws and the removal of one tyrap clamp support. These actions would be required to be accomplished in accordance with the alert telex described previously.

On July 10, 2002, the FAA issued a new version of 14 CFR part 39 (67 FR 47997, July 22, 2002), which governs the FAA's AD system. The regulation now includes material that relates to altered products, special flight permits, and alternative methods of compliance. Because we have now included this material in part 39, we no longer need to include it in each individual AD.

The FAA estimates that this proposed AD would affect 45 helicopters of U.S. registry and the proposed actions would take approximately 3 work hours per helicopter to accomplish at an average labor rate of $60 per work hour. Two additional work hours would be required to replace a hose. Required parts would cost approximately:

• $229 for the air vent hose, part number (P/N) 365A55-3044-07 (3 each estimated);

• $139 for the air vent hose, P/N 365A55-3044-09 (3 each estimated);

• $1 for the spacer, P/N E0688-02 (2 each required per helicopter);

• $1 for the screw, P/N 22256BC040012L (4 each per helicopter);

• $1 for the screw, P/N 22256BC040012L (2 each per helicopter); and

• $.50 for the clamp, P/N E0043-1C0 (2 each per helicopter).

Based on these figures, we estimate the total cost impact of the proposed AD on U.S. operators would be $9,609, assuming that six air vent hoses (3 of each kind) would need to be replaced and 2 spacers, 6 screws, and 2 clamps would be replaced in the entire fleet.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Eurocopter France: Docket No. 2003-SW-09-AD.

Applicability: Model SA-365N, N1, AS-365N2, and AS 365 N3 helicopters, certificated in any category.

Compliance: Within the next 50 hours time-in-service (TIS) or 1 month, whichever occurs first, unless accomplished previously.

To prevent fuel leakage, toxic fumes inside the cabin creating a fire hazard that could lead to a fire and smoke in the cabin, and subsequent loss of control of the helicopter, accomplish the following:

(a) In accordance with the Accomplishment Instructions, paragraph 2.B.2. of Eurocopter Alert Telex No. 28.00.31, dated January 14, 2003 (Alert Telex):

(1) Inspect the fuel air vent hose (air vent hose) on the right-hand (RH) and left-hand (LH) side of the helicopter for chafing and fuel leakage in the interference areas.

(i) Replace any leaking air vent hose before further flight, and

(ii) Modify any non-leaking air vent hose by wrapping it with adhesive tape before further flight.

(2) For any air vent hose with chafing damage, replace the air vent hose at the next 500-hour TIS inspection.

(b) Inspect the length of each attachment screw of the latch support on the RH and LH sides and, if the length exceeds 12 mm, replace the attachment screw in accordance with the Accomplishment Instructions, paragraph 2.B.3. of the Alert Telex.

(c) Install spacers for the air vent hose on the RH side between the attachment screws of the latch support and the air vent hose in accordance with the Accomplishment Instructions, paragraph 2.B.4. of the Alert Telex.

(d) Remove one of the tyrap clamp supports from the LH side that secures the air vent hose to the 9° frame at the latch support in accordance with the Accomplishment Instructions, paragraph 2.B.5. of the Alert Telex.

(e) Install latch supports on the RH and LH sides, and the covering panels on the 9° frame in accordance with the Accomplishment Instructions, paragraph 2.B.6. of the Alert Telex.

(f) Inspect the doors for correct closing, and if necessary, adjust the position of the microswitches (if installed) and the latches in accordance with the Accomplishment Instructions, paragraph 2.B.6. of the Alert Telex.

(g) To request a different method of compliance or a different compliance time for this AD, follow the procedures in 14 CFR 39.19. Send the proposal to the Manager, Safety Management Group, FAA. Contact the Safety Management Group for information about previously approved alternative methods of compliance.

Note: The subject of this AD is addressed in Direction Generale De L'Aviation Civile (France) AD 2003-028(A), dated February 5, 2003.

Issued in Fort Worth, Texas, on July 8, 2003.
Mark R. Schilling,
Acting Manager, Rotorcraft Directorate, Aircraft Certification Service.

[FR Doc. 03-17952 Filed 7-15-03; 8:45 am]

BILLING CODE 4910-13-P